DEPARTMENT OF TRANSPORTATION

Federal Aviation Administration

14 CFR Part 39

[Docket No. FAA-2017-0671; Directorate Identifier 2016-SW-072-AD]

RIN 2120-AA64

Airworthiness Directives; Airbus Helicopters (Previously Eurocopter France)

AGENCY: Federal Aviation Administration (FAA), DOT.

ACTION: Notice of proposed rulemaking (NPRM).

SUMMARY: We propose to supersede Airworthiness Directive (AD) 2009-25-07 for Airbus Helicopters Model EC120B helicopters. AD 2009-25-07 currently requires amending the rotorcraft flight manual supplement (RFMS) and pre-flight checking the emergency flotation gear before each flight over water. Since we issued AD 2009-25-07, Airbus Helicopters developed a terminating action and identified an additional part-numbered emergency floatation gear part with the unsafe condition. This proposed AD would retain the requirements of AD 2009-25-07, expand the applicability, and add a terminating action for the repetitive inspections. The actions of this proposed AD are intended to correct the unsafe condition on these helicopters.

DATES: We must receive comments on this proposed AD by September 12, 2017.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building, Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2017-0671; or in person at the Docket Operations Office between 9 a.m. and 5 p.m., Monday through Friday, except Federal holidays. The AD docket contains this proposed AD, the European Aviation Safety Agency (EASA) AD, the economic evaluation, any comments received and other information. The street address for the Docket Operations Office (telephone 800-647-5527) is in the ADDRESSES section. Comments will be available in the AD docket shortly after receipt.

For service information identified in this proposed rule, contact Airbus Helicopters, 2701 N. Forum Drive, Grand Prairie, TX 75052; telephone (972) 641-0000 or (800) 232-0323; fax (972) 641-3775; or at http://www.airbushelicopters.com/Web site/technical-expert/. You may review service information at the FAA, Office of the Regional Counsel, Southwest Region, 10101 Hillwood Pkwy, Room 6N-321, Fort Worth, TX 76177.

FOR FURTHER INFORMATION CONTACT: George Schwab, Aviation Safety Engineer, Safety Management Group, Rotorcraft Directorate, FAA, 10101 Hillwood Pkwy, Fort Worth, TX 76177; telephone (817) 222-5110; email george.schwab@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

On November 18, 2009, we issued AD 2009-25-07, Amendment 39-16126 (74 FR 65682, December 11, 2009) for Eurocopter France (now Airbus Helicopters) Model EC120B helicopters with an Emergency Floatation Gear lighting and ancillary control unit (LACU), part number (P/N) 040101AB, installed. AD 2009-25-07 requires amending the Limitations section of the RFMS to prohibit flight over water if the “float arm” pushbutton does not remain lit, conducting a pilot check to determine whether the “float arm” pushbutton remains lit before any flight over water, and placarding the “float arm” pushbutton as inoperative if the functional check is unsuccessful.

AD 2009-25-07 was prompted by AD No. 2008-0177-E, dated September 19, 2008 (AD 2008-0177-E), issued by EASA, which is the Technical Agent for the Member States of the European Union, to correct an unsafe condition for Model EC120B helicopters. EASA advises that operators reported reliability issues with the LACU emergency flotation “float arm” latching pushbuttons, used to arm the emergency flotation gear, including failure of the light to illuminate properly. AD 2008-0177-E states the unsafe condition may be due to the bonding of the pushbuttons and requires a repetitive, in-flight functional test of the float arm pushbutton before flight overwater. AD 2008-0177-E further prohibits overwater flight if the pushbutton fails to latch in the depressed position. Those actions are intended to prohibit flight over water if a functional test indicates that the emergency flotation gear cannot be armed, which would preclude deployment of the floats in an emergency water ditching, resulting in subsequent damage to the helicopter and injury to occupants.

Actions Since AD 2009-25-07 Was Issued

Since we issued AD 2009-25-07, EASA has issued AD No. 2016-0180, dated September 13, 2016 (AD 2016-0180), which superseded AD 2008-0177-E. EASA advises that Airbus Helicopters has designed an improved latching pushbutton, which when installed becomes a terminating action for the repetitive functional checks of the float arm pushbuttons. EASA also states that LACU P/N 040101BA is equipped with the same faulty pushbutton and must be included in the applicability.

We have also determined that the “Emergency Floatation Gear LACU” as identified in AD 2009-25-07 is more correctly described as an LACU. Therefore we use the term “LACU” in this proposed AD.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information

We reviewed Airbus Helicopters Emergency Alert Service Bulletin No. 04A007, Revision 1, dated June 30, 2016 (EASB), for Airbus Helicopters Model EC120B helicopters. The EASB describes procedures for a pre-flight check of the float arm pushbutton while arming the emergency flotation gear and prohibits operators from flight over water if the float arm pushbutton fails.

We also reviewed Airbus Helicopters Alert Service Bulletin No. EC120-31A008, dated June 30, 2016 (ASB), for Airbus Helicopters Model EC 120B helicopters. The ASB describes procedures for replacing the float arm pushbutton with a new design pushbutton and for re-labeling the modified LACU with a new P/N label.

Proposed AD Requirements

This proposed AD would retain the RFMS amendment and repetitive functional check requirements of AD 2009-25-07. This proposed AD would add LACU P/N 040101BA to the applicability paragraph, require replacing the float arm pushbutton P/N 045004A111A with float arm pushbutton P/N 304-2500-00 within 300 hours time-in-service (TIS), and prohibit installing float arm pushbutton P/N 045004A111A on any helicopter. Replacing the float arm pushbutton would be a terminating action for the repetitive functional checks prior to flight overwater.

An owner/operator (pilot) may perform the functional check required by this AD and must enter compliance with that paragraph into the helicopter maintenance records in accordance with 14 CFR 43.9(a)(1) through (4) and 91.417(a)(2)(v). A pilot may perform this check because it involves only a functional check to determine whether the emergency flotation gear has been armed and can be performed equally well by a pilot or a mechanic. This check is an exception to our standard maintenance regulations.

This proposed AD would also revise the term “emergency flotation gear lighting and ancillary control unit” in the applicability paragraph to “lighting and ancillary control unit” for technical accuracy.

Differences Between This Proposed AD and the EASA AD

The EASA AD requires installing the LACU float arm pushbutton within 13 months; the proposed AD would require the installation within 300 hours TIS.

Costs of Compliance

We estimate that this proposed AD would affect 53 helicopters of U.S. Registry.

We estimate that operators may incur the following costs in order to comply with this AD. At an average labor rate of $85 per hour, the cost of revising the limitations section of the RFMS and of the pre-flight functional check is negligible. Replacing the float arm pushbutton would require about 2 work-hours, and required parts would cost about $311, for a cost per helicopter of $481 and a total cost of $25,493 to the U.S. fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2009-25-07, Amendment 39-16126 (74 FR 65682, December 11, 2009), and adding the following new AD:

Airbus Helicopters (Previously Eurocopter France): Docket No. FAA-2017-0671; Directorate Identifier 2016-SW-072-AD.

(a) Applicability

This AD applies to Airbus Helicopters (previously Eurocopter France) Model EC120B helicopters, certificated in any category, with a Lighting and Ancillary Control Unit (LACU) part-number (P/N) 040101AB or 040101BA with a float arm pushbutton P/N 045004A111A installed.

(b) Unsafe Condition

This AD defines the unsafe condition as failure of a “float arm” pushbutton, which could result in inoperative floats being used in an emergency water ditching, causing damage to the helicopter or injury to occupants.

(c) Affected ADs

This AD supersedes AD 2009-25-07, Amendment 39-16126 (74 FR 65682, December 11, 2009).

(d) Comments Due Date

We must receive comments by September 12, 2017.

(e) Compliance

You are responsible for performing each action required by this AD within the specified compliance time unless it has already been accomplished prior to that time.

(f) Required Actions

(1) Before further flight, amend the EC120B Rotorcraft Flight Manual Supplement (RFMS) for the emergency flotation gear Aerazur, by inserting a copy of this AD into the Limitations section of the RFMS or by making pen and ink changes to that section to add the information in figure 1 to paragraph (f)(1) of this AD:

(2) Before each flight over water:

(i) Perform a functional check to determine whether flight over water is permitted under the Limitations section in paragraph (f)(1) of this AD. For purposes of this AD, “flight over water” means flight beyond the power-off gliding distance from shore. “Shore” is an area of land adjacent to the water and above the high water mark but does not include land area that is intermittently under water. The actions required by this paragraph may be performed by the owner/operator (pilot) holding at least a private pilot certificate, and must be entered into the aircraft records showing compliance with this AD in accordance with 14 CFR 43.9 (a)(1) through (4) and 14 CFR 91.417(a)(2)(v). The record must be maintained as required by 14 CFR 91.417, 121.380, or 135.439.

(ii) If the LACU fails the functional check required by paragraph (f)(2)(i) of this AD, place a placard over the “float arm” pushbutton that reads “INOP.”

(3) Within 300 hours time-in-service, replace float arm pushbutton P/N 045004A111A with float arm pushbutton P/N 304-2500-00. Installing float arm pushbutton P/N 304-2500-00 is terminating action for the functional check and placard required by paragraphs (f)(2)(i) and (f)(2)(ii) of this AD.

(4) Do not install float arm pushbutton P/N 045004A111A on any helicopter.

(g) Alternative Methods of Compliance (AMOCs)

(1) The Manager, Safety Management Group, FAA, may approve AMOCs for this AD. Send your proposal to: George Schwab, Aviation Safety Engineer, Safety Management Group, Rotorcraft Directorate, FAA, 10101 Hillwood Pkwy, Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

(1) Airbus Helicopters Emergency Alert Service Bulletin No. 04A007, Revision 1, dated June 30, 2016, and Airbus Helicopters Alert Service Bulletin No. EC120-31A008, dated June 30, 2016, which are not incorporated by reference, contain additional information about the subject of this AD. For service information identified in this AD, contact Airbus Helicopters, 2701 N. Forum Drive, Grand Prairie, TX 75052; telephone (972) 641-0000 or (800) 232-0323; fax (972) 641-3775; or at http://www.airbushelicopters.com/website/technical-expert/. You may review a copy of the service information at the FAA, Office of the Regional Counsel, Southwest Region, 10101 Hillwood Pkwy., Room 6N-321, Fort Worth, TX 76177.

(2) The subject of this AD is addressed in European Aviation Safety Agency (EASA) AD No. 2016-0180, dated September 13, 2016. You may view the EASA AD on the Internet at http://www.regulations.gov in the AD Docket.

(i) Subject

Joint Aircraft Service Component (JASC) Code: 2560 Emergency Equipment.

Issued in Fort Worth, Texas, on June 28, 2017.
Scott A. Horn,
Acting Manager, Rotorcraft Directorate, Aircraft Certification Service.

[FR Doc. 2017-14373 Filed 7-13-17; 8:45 am]

BILLING CODE 4910-13-P